DEPARTMENT OF COMMERCE

Foreign-Trade Zones Board

[B-58-2019]

Foreign-Trade Zone 262—Southaven, Mississippi; Application for Reorganization Under Alternative Site Framework

An application has been submitted to the Foreign-Trade Zones (FTZ) Board by the Northern Mississippi FTZ, Inc., grantee of FTZ 262, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on September 19, 2019.

FTZ 262 was approved by the FTZ Board on October 1, 2004 (Board Order 1353, 69 FR 60841, October 13, 2004) and expanded on December 21, 2005 (Board Order 1431, 70 FR 77374-77375, December 30, 2005).

The current zone includes the following site: Site 1 (680 acres)—DeSoto Trade Center, located between Interstate 55 and US Highway 51 just south of Church Road, Southaven.

The grantee's proposed service area under the ASF would be DeSoto County, Mississippi, as described in the application. If approved, the grantee would be able to serve sites throughout the service area based on companies' needs for FTZ designation. The application indicates that the proposed service area is within and adjacent to the Memphis Customs and Border Protection port of entry.

The applicant is requesting authority to reorganize its existing zone to include its existing site as a “magnet” site. No subzones/usage-driven sites are being requested at this time. The application would have no impact on FTZ 262's previously authorized subzones.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is November 25, 2019. Rebuttal comments in response to material submitted during the foregoing period may be submitted during the subsequent 15-day period to December 9, 2019.

A copy of the application will be available for public inspection in the “Reading Room” section of the FTZ Board's website, which is accessible via www.trade.gov/ftz.

For further information, contact Camille Evans at Camille.Evans@trade.gov or (202) 482-2350.

Dated: September 20, 2019.
Andrew McGilvray,
Executive Secretary.

[FR Doc. 2019-20820 Filed 9-24-19; 8:45 am]

BILLING CODE 3510-DS-P